DEPARTMENT OF TRANSPORTATION

Federal Aviation Administration

[Summary Notice No. PE-2001-03]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or ommission of information in the summary is intended to affect the legal status of any petition or its final disposition.

DATES: Comments on petitions received must identify the petition docket number involved and must be received on or before February 5, 2001.

ADDRESSES: Send comments on any petition in triplicate to: Federal Aviation Administration, Office of the Chief Counsel, Attn: Rule Docket (AGC-200), Petition Docket No. ___, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Forest Rawls (202) 267-8033, or Vanessa Wilkins (202) 267-8029 Office of Rulemaking (ARM-1), Federal Avaiation Administration, 800 Independence Avenue, SW., Washington, DC 20591.

This notice is published pursuant to § 11.85 and § 11.91.

Issued in Washington, D.C., on January 10, 2001.
Donald P. Byrne,
Assistant Chief Counsel for Regulations.

Dispositions of Petitions

Docket No.: 30151.

Petitioner: Lufthansa Technik.

Section of the 14 CFR Affected: 14 CFR § 25.785(b)

Description of Relief Sought/Disposition: To permit relief from the general occupant protection requirements for multiple place side-facing seats on a Boeing Model 777-2AN airplane, serial number 29953.

Grant, 12/11/00, Exemption No. 7392

Docket No.: 30081.

Petitioner: Kodiak Expediting, Inc.

Section of the 14 CFR Affected: 14 CFR § 61.133(b)(1)

Description of Relief Sought/Disposition: To permit KEI to conduct passenger-carrying operations on cross-country flights in excess of 50 nautical miles without holding an instrument rating in the same category and class of aircraft listed on your commercial pilot certificate.

Denial, 12/18/00, Exemption No. 7407

Docket No.: 30052.

Petitioner: Airbus Industrie

Section of the 14 CFR Affected: 14 CFR § 25.807(f)(4)

Description of Relief Sought/Disposition: To permit an interior arrangement on an Airbus Model A340-600 that does not provide 60 feet or less between passenger emergency exists in the side of the fuselage.

Denial, 12/11/00, Exemption No. 7404

[FR Doc. 01-1290 Filed 1-16-01; 8:45 am]

BILLING CODE 4910-13-M